DEPARTMENT OF ENERGY

Federal Energy Regulatory Commission

[Docket No. RP00-218-001]

Natural Gas Pipeline Company of America; Notice of Compliance Filing

May 2, 2000.

Take notice that on April 27, 2000, Natural Gas Pipeline Company of America (Natural) tendered for filing as part of its FERC Gas Tariff, Sixth Revised Volume No. 1, certain tariff sheets to be effective April 16, 2000.

Natural states that these tariff sheets were filed in compliance with the Commission's “Order Accepting and Suspending Tariff Sheets Subject to Refund and Other Conditions” issued April 12, 2000 in Docket No. RP00-218-000 related to Natural's implementation of new Rate Schedule IBS (interruptible imbalance management service).

Natural states that copies of the filing have been mailed to its customers, interested state regulatory agencies and all parties set out on the official service list in Docket No. RP00-218.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11358 Filed 5-5-00; 8:45 am]

BILLING CODE 6717-01-M